DEPARTMENT OF ENERGY

Federal Energy Regulatory Commission

Combined Notice of Filings #1

Take notice that the Commission received the following electric corporate filings:

Docket Numbers: EC16-59-000.

Applicants: RE Astoria LLC.

Description: Application for Authorization Under Section 203 of the Federal Power Act and Request for Expedited Consideration, Confidential Treatment and Waivers of RE Astoria LLC.

Filed Date: 1/11/16.

Accession Number: 20160111-5322.

Comments Due: 5 p.m. ET 2/1/16.

Take notice that the Commission received the following electric rate filings:

Docket Numbers: ER10-2641-023; ER10-2663-023; ER10-2881-023; ER10-2882-023; ER10-2883-023; ER10-2884-023; ER10-2885-023; ER10-2886-023; ER13-1101-018; ER13-1541-017; ER14-661-009; ER14-787-011; ER15-54-003; ER15-55-003; ER15-1475-004; ER15-2593-003; ER16-452-002.

Applicants: Oleander Power Project, LP, Southern Company—Florida LLC, Alabama Power Company, Southern Power Company, Mississippi Power Company, Georgia Power Company, Gulf Power Company, Southern Turner Cimarron I, LLC, Spectrum Nevada Solar, LLC, Campo Verde Solar, LLC, SG2 Imperial Valley LLC, Macho Springs Solar, LLC, Lost Hills Solar, LLC, Blackwell Solar, LLC, North Star Solar, LLC, Desert Stateline LLC, RE Tranquillity LLC.

Description: Notice of Non-Material of Change in Status of Oleander Power Project, Limited Partnership, et. al. et. al.

Filed Date: 1/11/16.

Accession Number: 20160111-5360.

Comments Due: 5 p.m. ET 2/1/16.

Docket Numbers: ER15-1471-004; ER15-1672-003.

Applicants: Blue Sky West, LLC, Evergreen Wind Power II, LLC.

Description: Notice of Change in Status of Blue Sky West, LLC, et. al.

Filed Date: 1/11/16.

Accession Number: 20160111-5325.

Comments Due: 5 p.m. ET 2/1/16.

Docket Numbers: ER16-206-002.

Applicants: Midcontinent Independent System Operator, Inc., ITC Midwest LLC.

Description: Tariff Amendment: 2016-01-12_SA 2862 Deficiency Response ITCM-WPL FSA (G870) to be effective 11/1/2015.

Filed Date: 1/12/16.

Accession Number: 20160112-5083.

Comments Due: 5 p.m. ET 2/2/16.

Docket Numbers: ER16-712-000.

Applicants: ITC Midwest LLC.

Description: § 205(d) Rate Filing: ITC Midwest/MidAmerican Communications Sharing Agreement to be effective 3/11/2016.

Filed Date: 1/11/16.

Accession Number: 20160111-5361.

Comments Due: 5 p.m. ET 2/1/16.

Docket Numbers: ER16-713-000.

Applicants: Public Service Company of Colorado.

Description: § 205(d) Rate Filing: Implementation Procedure Correction to be effective 9/1/2011.

Filed Date: 1/11/16.

Accession Number: 20160111-5362.

Comments Due: 5 p.m. ET 2/1/16.

Docket Numbers: ER16-714-000.

Applicants: Northern States Power Company, a Minnesota corporation.

Description: Notice of Cancellation of Northern States Power Company, a Minnesota corporation of System Integration Coordination Services Agreement with Western Area Power Administration.

Filed Date: 1/12/16.

Accession Number: 20160112-5121.

Comments Due: 5 p.m. ET 2/2/16.

Docket Numbers: ER16-715-000.

Applicants: DanMar Transmission, LLC.

Description: Baseline eTariff Filing: Transmission and Interconnection Agreement to be effective 3/13/2016.

Filed Date: 1/12/16.

Accession Number: 20160112-5131.

Comments Due: 5 p.m. ET 2/2/16.

Docket Numbers: ER16-716-000.

Applicants: DanMar Transmission, LLC.

Description: § 205(d) Rate Filing: Transmission and Interconnection Agreement to be effective 3/13/2016.

Filed Date: 1/12/16.

Accession Number: 20160112-5143.

Comments Due: 5 p.m. ET 2/2/16.

Docket Numbers: ER16-717-000.

Applicants: DanMar Transmission, LLC.

Description: § 205(d) Rate Filing: Transmission and Interconnection Agreement to be effective 3/13/2016.

Filed Date: 1/12/16.

Accession Number: 20160112-5144.

Comments Due: 5 p.m. ET 2/2/16.

Docket Numbers: ER16-718-000.

Applicants: DanMar Transmission, LLC.

Description: § 205(d) Rate Filing: Transmission and Interconnection Agreement to be effective 3/13/2016.

Filed Date: 1/12/16.

Accession Number: 20160112-5145.

Comments Due: 5 p.m. ET 2/2/16.

Docket Numbers: ER16-719-000.

Applicants: DanMar Transmission, LLC.

Description: § 205(d) Rate Filing: Transmission and Interconnection Agreement to be effective 3/13/2016.

Filed Date: 1/12/16.

Accession Number: 20160112-5146.

Comments Due: 5 p.m. ET 2/2/16.

Docket Numbers: ER16-720-000.

Applicants: Arizona Public Service Company.

Description: § 205(d) Rate Filing: ANPP Agreement Revisions to be effective 1/12/2016.

Filed Date: 1/12/16.

Accession Number: 20160112-5167.

Comments Due: 5 p.m. ET 2/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2016.
Nathaniel J. Davis, Sr.,
Deputy Secretary.

[FR Doc. 2016-00808 Filed 1-15-16; 8:45 am]

BILLING CODE 6717-01-P